FEDERAL COMMUNICATIONS COMMISSION

47 CFR Parts 0, 1, and 9

[PS Docket Nos. 21-479 and 13-75; DA 25-580; FR ID 302998]

Facilitating Implementation of Next Generation 911 Services (NG911); Improving 911 Reliability

AGENCY: Federal Communications Commission.

ACTION: Proposed rule; Extension of comment and reply comment periods.

SUMMARY: In this document, the Federal Communications Commission (Commission) extends the comment and reply comment periods of the Further Notice of Proposed Rulemaking (FNPRM) in PS Docket Nos. 21-479 and 13-75, FCC 25-21, that was released on March 28, 2025 and published in the Federal Register on June 4, 2025.

DATES: The deadline for filing comments is extended to August 4, 2025, and the deadline for filing reply comments is extended to September 17, 2025.

ADDRESSES: You may submit comments and reply comments, identified by PS Docket Nos. 21-479 and 13-75, by any of the following methods:

• Electronic Filers: Parties may file electronically using the internet by accessing the Commission's Electronic Comment Filing System (ECFS): https://www.fcc.gov/ecfs. See Electronic Filing of Documents in Rulemaking Proceedings, 63 FR 24121 (1998), https://www.govinfo.gov/content/pkg/FR-1998-05-01/pdf/98-10310.pdf.

• Paper Filers: Parties who choose to file by paper must file an original and one copy of each filing.

• Paper filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701. Filings sent by U.S. Postal Service First-Class Mail, Priority Mail, and Priority Mail Express must be sent to 45 L Street NE, Washington, DC 20554.

• People with Disabilities: To request materials in accessible formats for people with disabilities (braille, large print, electronic files, audio format), send an email to fcc504@fcc.gov or call the Consumer & Governmental Affairs Bureau at 202-418-0530.

FOR FURTHER INFORMATION CONTACT: Rachel Wehr, Deputy Division Chief, Policy and Licensing Division, Public Safety and Homeland Security Bureau, (202) 418-1138 or Rachel.Wehr@fcc.gov, or Chris Fedeli, Attorney Advisor, Policy and Licensing Division, Public Safety and Homeland Security Bureau, (202) 418-1514 or Christopher.Fedeli@fcc.gov.

SUPPLEMENTARY INFORMATION: This is a summary of the Public Safety and Homeland Security Bureau's (Bureau) Order in PS Docket Nos. 21-479 and 13-75; DA 25-580, adopted and released on July 8, 2025. The full text of the Order is available at https://docs.fcc.gov/public/attachments/DA-25-580A1.pdf.

Initial Paperwork Reduction Act of 1995 Analysis: This document does not contain proposed information collection requirements subject to the Paperwork Reduction Act of 1995, Public Law 104-13. In addition, therefore, it does not contain any proposed information collection burden for small business concerns with fewer than 25 employees, pursuant to the Small Business Paperwork Relief Act of 2002, Public Law 107-198, see 44 U.S.C. 3506(c)(4).

Synopsis

In the Order, the Bureau grants in part a Motion for Extension of Time (Motion) filed jointly on June 17, 2025 by the National Association of State 9-1-1 Administrators (NASNA), the National Emergency Number Association: The 9-1-1 Association (NENA), and the Industry Council for Emergency Response Technologies (iCERT) in PS Docket Nos. 21-479 and 13-75. The Motion seeks an extension of time for filing comments and reply comments in response to the Further Notice of Proposed Rulemaking (FNPRM) that was released on March 28, 2025 proposing and seeking comment on changes to the Commission's 911 reliability rules. The summary of the FNPRM was published in the Federal Register, 90 FR 23768 (June 4, 2025). For the reasons stated below, the Bureau finds that the extension request is warranted in part and thus extends the comment and reply comment deadlines to August 4, 2025 and September 17, 2025, respectively.

The joint filers request a 120-day extension to the comment and reply comment deadlines. The Bureau finds that a more limited extension will be sufficient to accommodate the concerns raised. As set forth in section 1.46 of the Commission's rules, 47 CFR 1.46, the Commission does not routinely grant extensions of time. In this case, however, the Bureau finds that a moderate extension of the initial comment deadline will provide additional time for parties to organize and coordinate their input to the Commission, and increasing the interval between initial comments and replies will create an expanded window for collaborative discussions among parties after the initial comments have been filed.

Ordering Clauses

Accordingly, it is ordered, that pursuant to 47 U.S.C. 154(i)-(j), and sections 0.204, 0.392, and 1.46 of the Commission's rules, 47 CFR 0.204, 0.392, 1.46, the Motion for Extension of Time is granted in part and otherwise denied. It is further ordered that the deadline to file comments in this proceeding is extended to August 4, 2025, and the deadline to file reply comments is extended to September 17, 2025.

Federal Communications Commission.
Marlene Dortch,
Secretary.

[FR Doc. 2025-13307 Filed 7-15-25; 8:45 am]

BILLING CODE 6712-01-P